DEPARTMENT OF TRANSPORTATION

Federal Aviation Administration

14 CFR Part 39

[Docket No. 2000-NM-66-AD]

RIN 2120-AA64

Airworthiness Directives; Empresa Brasileira de Aeronautica S.A. (EMBRAER) Model EMB-120 Series Airplanes

AGENCY: Federal Aviation Administration, DOT.

ACTION: Supplemental notice of proposed rulemaking; reopening of comment period.

SUMMARY: This document revises an earlier proposed airworthiness directive (AD), applicable to all EMBRAER Model EMB-120 series airplanes, that would have superseded an existing AD that currently requires repetitive visual checks or inspections to verify that the flight idle stop system circuit breakers are closed, and repetitive functional tests to determine if the backup flight idle stop system is operative. That notice of proposed rulemaking (NPRM) would also have required modification of the secondary flight idle stop system (SFISS), which would terminate the repetitive actions. That NPRM also would have removed certain airplanes from the applicability. That NPRM was prompted by issuance of mandatory continuing airworthiness information by a foreign civil airworthiness authority. This new action revises the proposed rule by changing the compliance time and certain procedures for modifying the SFISS. The actions specified by this new supplemental NPRM are intended to prevent an inoperative backup flight idle stop system.

DATES: Comments must be received by February 12, 2001.

ADDRESSES: Submit comments in triplicate to the Federal Aviation Administration (FAA), Transport Airplane Directorate, ANM-114, Attention: Rules Docket No. 2000-NM-66-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-66-AD” in the subject line and need not be submitted in triplicate. Comments sent via the Internet as attached electronic files must be formatted in Microsoft Word 97 for Windows or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia.

FOR FURTHER INFORMATION CONTACT: Linda Haynes, Aerospace Engineer, Propulsion Branch, ACE-117A, FAA, Atlanta Aircraft Certification Office, One Crown Center, 1895 Phoenix Boulevard, suite 450, Atlanta, Georgia 30349; telephone (770) 703-6091; fax (770) 703-6097.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the supplemental NPRM is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-66-AD.” The postcard will be date stamped and returned to the commenter.

Availability of NPRMs

Any person may obtain a copy of this notice of proposed rulemaking (NPRM) by submitting a request to the FAA, Transport Airplane Directorate, ANM-114, Attention: Rules Docket No. 2000-NM-66-AD, 1601 Lind Avenue, SW., Renton, Washington 98055-4056.

Discussion

A proposal to amend part 39 of the Federal Aviation Regulations (14 CFR part 39) to add an airworthiness directive (AD), applicable to certain EMBRAER Model EMB-120 series airplanes, was published as an NPRM in the Federal Register on April 11, 2000 (65 FR 19345). That NPRM proposed to supersede AD 92-16-51, amendment 39-8355 (57 FR 40838, September 8, 1992), which is applicable to all EMBRAER Model EMB-120 series airplanes. That NPRM would have continued to require repetitive visual checks or inspections to verify that the flight idle stop system circuit breakers are closed, and repetitive functional tests to determine if the backup flight idle stop system is operative. That NPRM would have added a modification of the secondary flight idle stop system (SFISS), which would terminate the repetitive actions. That NPRM also would have removed certain airplanes from the applicability.

Actions Since Issuance of Previous Proposal

Since the issuance of that NPRM, EMBRAER has issued two new service bulletins that revise certain procedures that were included in earlier revisions of the service bulletins to further improve the reliability of the SFISS.

EMBRAER Service Bulletin 120-76-0018, Change No. 03, dated May 26, 2000, includes new and revised procedures for replacing the SFISS with a new system. The actions specified in this service bulletin are intended to reduce maintenance efforts by eliminating certain repetitive inspections and tests, and to provide warning lights if either of the two secondary flight idle locks become inoperable during flight. This new revision divides the text into Part I and Part II, as follows:

• Part I revises modification procedures for replacing the flight idle lock assembly with a new assembly within 4,000 flight hours.

• Part II includes modification procedures for an inspection to determine the type of bolt used to attach the power control Teleflex cable end to the nacelle secondary flight idle locking mechanism, and replacement of any hex-head bolt with a countersunk-head bolt within 400 flight hours.

EMBRAER Service Bulletin 120-76-0022, Change No. 01, dated October 9, 2000, revises the procedures in Parts I, II, and III, and adds Part IV procedures.

• Part I revises the procedure for installing the new power control bellcrank.

• Part II adds an inspection procedure and corrective action if a protruding hex-head bolt is found during the inspection.

• Part III revises the procedures for replacing the existing solenoid assembly by adding procedures for releasing the control cable end from the power control bellcrank and installing the new power control bellcrank.

• Part IV adds procedures for inspecting and replacing the bolt used to attach the power control cable end to the power control bellcrank.

Comments Received

Due consideration has been given to the comments received in response to the original NPRM:

Request To Use Later Service Information

One commenter requests changing the revision number of Embraer Service Bulletin 120-76-0018, from Revision 01 to Revision 03 to reflect the latest improvements in the new design for the SFISS. This new design provides a significant reduction in maintenance requirements and a positive warning of an inoperative condition.

The FAA concurs that the later revision of this service bulletin, which is Change No. 03, dated May 26, 2000 (rather than Revision 03), is the correct reference. Paragraph (d)(2) of the supplemental NPRM has been revised accordingly.

Request To Revise Compliance Time for Modifying the SFISS

One commenter strongly recommends incorporating the new SFISS in all EMB-120 series airplanes that are in operation at the earliest scheduled heavy maintenance opportunity (within the next 4,000 flight hours). The commenter proposes this change because the improved SFISS specified in Service Bulletin 120-76-0018, Change No. 03, significantly reduces maintenance efforts and provides a positive warning of an inoperative condition.

The FAA partially concurs with the commenter's request to change the compliance time for modifying the SFISS in accordance with the new revision of Service Bulletin 120-76-0018. However, we have determined that the modification specified in Part I of that service bulletin must be accomplished “within 18 months or within 4,000 flight hours after the effective date of this AD, whichever occurs earlier.” We have also determined that the modification specified in Part II of that service bulletin must be accomplished “within 18 months or within 400 flight hours after the effective date of this AD, whichever occurs earlier.” In developing the appropriate compliance times, the FAA considered the safety implications, parts availability, and normal maintenance schedules for timely modification of the SFISS. In consideration of these factors, we have determined that the compliance times, as proposed in this supplemental NPRM, represent appropriate intervals in which the modifications can be accomplished in a timely manner within the fleet and still maintain an adequate level of safety. We have specified the new proposed compliance times in paragraphs (d)(2) and (d)(3) and have added paragraph (d)(4) of the supplemental NPRM accordingly.

Conclusion

The FAA has revised this supplemental NPRM to specify new requirements based on revisions to the previously referenced service bulletins and on certain comments previously described. Since these changes expand the scope of the originally proposed rule, we have determined that it is necessary to reopen the comment period to provide additional opportunity for public comment.

Cost Impact

The FAA estimates that 230 EMBRAER Model EMB-120 series airplanes of U.S. registry would be affected by this supplemental NPRM.

The actions that are currently required by AD 92-16-51 take approximately 5 work hours per airplane to accomplish, at an average labor rate of $60 per work hour.

Based on these figures, the cost impact of the currently required actions on U.S. operators is estimated to be $69,000, or $300 per airplane, per inspection cycle.

The approximate cost, at an average labor rate of $60 per work hour, for the modifications proposed by this AD are listed in Table 1, as follows:

Table 1.—Estimated Costs
Service bulletin | Work hours | Parts cost | Cost per airplane
120-76-0015:
Part I | 4 | $4,376 | $4,616
Part II | 2 | 14,331 | 14,451
120-76-0018:
Part I | 50 | 20,000 (varies with configuration) | 23,000
Part II |  |  |
120-76-0022:
Part I | 2 | 14,150 | 14,270
Part II | 2 | 2,429 | 2,549
Part III | 2 | 14,229 | 14,349
Part IV | 1 | 53 | 113

Therefore, based on the figures included in Table 1, the cost impact of the modification proposed by this AD on U.S. operators is estimated to range from $113 to $23,000 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation: (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8355 (57 FR 40838, September 8, 1992), and by adding a new airworthiness directive (AD), to read as follows:

Empresa Brasileira de Aeronautica, S.A. (EMBRAER): Docket 2000-NM-66-AD. Supersedes AD 92-16-51, Amendment 39-8355.

Applicability: Model EMB-120 series airplanes, certificated in any category; serial numbers 120004 through 120354 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To prevent an inoperative backup flight idle stop system, accomplish the following:

Restatement of Certain Requirements of AD 92-16-51:

(a) For all airplanes: Within 5 days after September 23, 1992 (the effective date of AD 92-16-51, amendment 39-8355), and thereafter prior to the first flight of each day until the requirements of paragraph (d) of this AD have been accomplished, accomplish paragraph (a)(1) or (a)(2) of this AD, as applicable:

(1) For airplanes on which an inspection window has been installed on the left lateral console panel that permits visibility of the flight idle stop solenoid circuit breakers:

Using an appropriate light source, perform a visual check to verify that both “FLT IDLE STOP SOL” circuit breakers CB0582 and CB0583 for engine 1 and engine 2 are closed.

Note 2: This check may be performed by a flight crew member.

Note 3: Instructions for installation of an inspection window can be found in EMBRAER Information Bulletin 120-076-0003, dated November 19, 1991; or EMBRAER Service Bulletin 120-076-0014, dated July 29, 1992.

(2) For airplanes on which an inspection window has not been installed on the left lateral console panel: Perform a visual inspection to verify that both “FLT IDLE STOP SOL” circuit breakers CB0582 and CB0583 for engine 1 and engine 2 are closed.

(b) As a result of the check or inspection performed in accordance with paragraph (a) of this AD: If circuit breakers CB0582 and CB0583 are not closed, prior to further flight, reset them and perform the functional test specified in paragraph (c) of this AD.

(c) Within 5 days after September 23, 1992, and thereafter at intervals not to exceed 75 hours time-in-service, or immediately following any maintenance action where the power levers are moved with the airplane on jacks, until the requirements of paragraph (d) of this AD have been accomplished, conduct a functional test of the backup flight idle stop system for engine 1 and engine 2 by performing the following steps:

(1) Move both power levers to the “MAX” position.

(2) Turn the aircraft power select switch on.

(3) Open both “AIR/GROUND SYSTEM” circuit breakers CB0283 and CB0286 to simulate in-flight conditions with weight-off-wheels. Wait for at least 15 seconds, then move both power levers back toward the propeller reverse position with the flight idle gate triggers raised. Verify that the power lever for each engine cannot be moved below the flight idle position, even though the flight idle gate trigger on each power lever is raised.

(4) If the power lever can be moved below the flight idle position, prior to further flight, restore the backup flight idle stop system to the configuration specified in EMBRAER Service Bulletin 120-076-0009, Change No. 4, dated November 1, 1990, and perform a functional test.

Note 4: If the power lever can be moved below flight idle, this indicates that the backup flight idle stop system is inoperative.

(5) Move both power levers to the “MAX” position.

(6) Close both “AIR/GROUND SYSTEM” circuit breakers CB0283 and CB0286. Wait for at least 15 seconds, then move both power levers back toward the propeller reverse position with the flight idle gate triggers raised. Verify that the power lever for each engine can be moved below the flight idle position.

(7) If either or both power levers cannot be moved below the flight idle position, prior to further flight, inspect the backup flight idle stop system and the flight idle gate system, and accomplish either paragraph (c)(7)(i) or (c)(7)(ii) of this AD, as applicable:

(i) If the backup flight idle stop system is failing to disengage with weight-on-wheels, prior to further flight, restore the system to the configuration specified in EMBRAER Service Bulletin 120-076-0009, Change No. 4, dated November 1, 1990.

(ii) If the flight idle gate system is failing to open even though the trigger is raised, prior to further flight, repair in accordance with the EMBRAER Model EMB-120 maintenance manual.

(8) Turn the power select switch off. The functional test is completed.

New Requirements of This AD

(d) Modify the secondary flight idle stop system (SFISS), as specified by paragraph (d)(1), (d)(2), (d)(3), or (d)(4), as applicable, of this AD. Accomplishment of the modification constitutes terminating action for the requirements of this AD.

(1) For airplane serial number 120068, within 18 months or within 4,000 flight hours after the effective date of this AD, whichever occurs earlier: Modify the SFISS in accordance with Parts I and II of EMBRAER Service Bulletin 120-76-0015, Change No. 05, dated September 9, 1999.

(2) For certain airplanes listed in EMBRAER Service Bulletin 120-76-0018, Change No. 03, dated May 26, 2000, that HAVE NOT accomplished the actions specified in earlier revisions of that service bulletin: Within 18 months or within 4,000 flight hours after the effective date of this AD, whichever occurs earlier, modify the SFISS (including replacing the bolts, washers, nuts, and cotter-pins of the engine power control cable for the left and right engines with new components; replacing the flight idle lock assembly with a new assembly; and replacing certain other components with new components), in accordance with Part I of that service bulletin.

(3) For certain airplanes listed in EMBRAER Service Bulletin 120-76-0018, Change No. 03, dated May 26, 2000, that HAVE accomplished the actions specified in that service bulletin: Within 18 months or within 400 flight hours after the effective date of this AD, whichever occurs earlier, modify the SFISS (including an inspection to determine the type of bolt used to attach the power control cable end at the bellcrank in the left and right nacelles, and replacement of any protruding hex-head bolt with a new countersunk-head bolt), in accordance with Part II of that service bulletin.

Note 5: This AD references Service Bulletin 120-76-0018, Change No. 03, dated May 26, 2000, and Brazilian airworthiness directive 90-07-04R4, dated October 4, 1999, for applicability, inspection, and modification information. In addition, this AD specifies compliance-time requirements beyond those included in the Brazilian airworthiness directive or the service information. Where there are differences between the AD and previously referenced documents, the AD prevails.

(4) For airplanes listed in EMBRAER Service Bulletin 120-76-0022, Change No. 01, dated October 9, 2000: Within 18 months or within 4,000 flight hours after the effective date of this AD, whichever occurs earlier, modify the SFISS in accordance with Part I, II, III, or IV, as applicable, of that service bulletin.

Note 6: Accomplishment of the requirements of paragraph (d) of this AD does not remove or otherwise alter the requirement to perform the repetitive (400-flight-hour) CAT 8 task checks specified by the Maintenance Review Board.

Alternative Methods of Compliance

(e)(1) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

(2) Alternative methods of compliance, approved previously for paragraphs (a), (b), and (c) of AD 92-16-51, are considered to be approved as alternative methods of compliance with the inspection requirements of paragraphs (a), (b), and (c) of this AD. No alternative methods of compliance have been approved in accordance with AD 92-16-51 as terminating action for this AD.

Note 7: Information concerning the existence of approved alternative methods of compliance with this AD, if any, may be obtained from the Atlanta ACO.

Special Flight Permits

(f) Special flight permits may be issued in accordance with sections 21.197 and 21.199 of the Federal Aviation Regulations (14 CFR 21.197 and 21.199) to operate the airplane to a location where the requirements of this AD can be accomplished.

Note 8: The subject of this AD is addressed in Brazilian airworthiness directive 90-07-04R4, dated October 4, 1999.

Issued in Renton, Washington, on January 9, 2001.
Donald L. Riggin,
Acting Manager, Transport Airplane Directorate, Aircraft Certification Service.

[FR Doc. 01-1239 Filed 1-12-01; 8:45 am]

BILLING CODE 4910-13-U